DEPARTMENT OF DEFENSE

Office of the Secretary

[Docket ID: DoD-2022-OS-0110]

Submission for OMB Review; Comment Request

AGENCY: Office of the Under Secretary of Defense for Personnel and Readiness (OUSD(P&R)), Department of Defense (DoD).

ACTION: 30-Day information collection notice.

SUMMARY: The DoD has submitted to the Office of Management and Budget (OMB) for clearance the following proposal for collection of information under the provisions of the Paperwork Reduction Act.

DATES: Consideration will be given to all comments received by March 30, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION:

Title; Associated Form; and OMB Number: Department of Defense Survivor Family Member Survey; OMB Control Number 0704-DDSS.

Type of Request: Existing collection in use without an OMB control number.

Number of Respondents: 540.

Responses per Respondent: 1.

Annual Responses: 540.

Average Burden per Response: 30 minutes.

Annual Burden Hours: 270.

Needs and Uses: The National Defense Authorization Act of 2006 (Pub. L. 109-163) requires data to be collected on the quality of casualty assistance provided to next of kin of military decedents. Beginning in early 2010, the DoD began inviting all primary next of kin to participate in a survey that is designed to measure the effectiveness of its casualty assistance program and the degree of satisfaction of those family members provided such assistance. In 2019, DoD began surveying secondary next of kin, which accounts for the increase in parent and guardian participation. Family responses are held confidentially and will not be reported individually, unless specifically requested by the respondent, but rather are combined with the responses of other survey participants. The aggregate findings from the survey are reported to senior leadership along with recommendations on how we might better serve those who are receiving assistance.

Affected Public: Individuals or households.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela Duncan.

Requests for copies of the information collection proposal should be sent to Ms. Duncan at whs.mc-alex.esd.mbx.dd-dod-information-collections@mail.mil.

Dated: February 22, 2023.
Aaron T. Siegel,
Alternate OSD Federal Register Liaison Officer, Department of Defense.

[FR Doc. 2023-04038 Filed 2-27-23; 8:45 am]

BILLING CODE 5001-06-P